FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than March 3, 2020.

A. Federal Reserve Bank of Atlanta (Kathryn Haney, Assistant Vice President) 1000 Peachtree Street, NE, Atlanta, Georgia 30309. Comments can also be sent electronically to Applications.Comments@atl.frb.org:

1. The Persons Family Trust, Macon Georgia, George Ogden Persons, III, Macon, Georgia, Jim Gillis Persons, Atlanta, Georgia, and Katherine Persons Kelly, Richmond, Virginia, as co-trustees; together with George Ogden Persons, III, Jim Gillis Persons, Katherine Persons Kelly, Mary K. Persons, Macon, Georgia, James G. Persons, Jr., Atlanta, Georgia, and Robert P. Persons and Harper Lee Kelly, both of Richmond, Virginia; as members of a group acting in concert to retain voting shares of Persons Banking Co., Inc., Macon, Georgia, and thereby indirectly retain voting shares of Persons Banking Company, Forsyth, Georgia.

Board of Governors of the Federal Reserve System, February 10, 2020.
Michele Taylor Fennell,
Assistant Secretary of the Board.

[FR Doc. 2020-02922 Filed 2-12-20; 8:45 am]

BILLING CODE P